DEPARTMENT OF HOMELAND SECURITY

Coast Guard

[Docket No. USCG-2009-0393]

Certificate of Alternative Compliance for the Crew Boat MR ZACHARY

AGENCY: Coast Guard, DHS.

ACTION: Notice.

SUMMARY: The Coast Guard announces that a Certificate of Alternative Compliance was issued for the crew boat MR ZACHARY as required by 33 U.S.C. 1605(c) and 33 CFR 81.18.

DATES: The Certificate of Alternative Compliance was issued on May 3, 2009.

ADDRESSES: The docket for this notice is available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, selecting the Advanced Docket Search option on the right side of the screen, inserting USCG-2009-0393 in the Docket ID box, pressing Enter, and then clicking on the item in the Docket ID column.

FOR FURTHER INFORMATION CONTACT: If you have questions on this notice, call CWO2 David Mauldin, District Eight, Prevention Branch, U.S. Coast Guard, telephone 504-671-2153. If you have questions on viewing or submitting material to the docket, call Renee V. Wright, Program Manager, Docket Operations, telephone 202-366-9826.

SUPPLEMENTARY INFORMATION:

Background and Purpose

The crew boat MR ZACHARY will be used for offshore supply operations. Full compliance with 72 COLREGS and the Inland Rules Act will hinder the vessel's ability to maneuver within close proximity of offshore platforms. Due to the design of the vessel it would be difficult and impractical to build a supporting structure that would put the side lights within 3.1′ from the greatest breadth of the Vessel, as required by Annex I, paragraph 3(b) of the 72 COLREGS and Annex I, Section 84.05(b), of the Inland Rules Act. Compliance with the rule would cause the lights on the crew boat MR ZACHARY to be in a location which will be highly susceptible to damage from offshore platforms. The crew boat MR ZACHARY cannot comply fully with lighting requirements as set out in international regulations without interfering with the special function of the vessel (33 U.S.C. 1605(c); 33 CFR 81.18).

Locating the side lights 6′2″ inboard from the greatest breadth of the vessel on the pilot house will provide a shelter location for the lights and allow maneuvering within close proximity to offshore platforms. In addition, the forward masthead light may be located on the top forward portion of the pilothouse 18′-2″ above the hull. Placing the forward masthead light at the height as required by Annex I, paragraph 2(a) of the 72 COLREGS, and Annex I, Section 84.03(a) of the Inland Rules Act, would result in a masthead light location highly susceptible to damage when working in close proximity to offshore platforms. Furthermore, the horizontal distance between the forward and aft masthead lights may be 16′-9 15/16″. Placing the aft masthead light at the horizontal distance from the forward masthead light as required by Annex I, paragraph 3(a) of the 72 COLREGS, and Annex I, Section 84.05(a) of the Inland Rules Act, would result in an aft masthead light location directly over the aft cargo deck where it would interfere with loading and unloading operations.

The Certificate of Alternative Compliance allows for the placement of the side lights to deviate from requirements set forth in Annex I, paragraph 3(b) of 72 COLREGS, and Annex I, paragraph 84.05(b) of the Inland Rules Act. In addition the Certificate of Alternative Compliance allows for the vertical placement of the forward masthead light to deviate from requirements set forth in Annex I, paragraph 2(a), and Annex I, Section 84.03(a) of the Inland Rules Act. Furthermore, the Certificate of Alternative Compliance allows for the horizontal separation of the forward and aft masthead lights to deviate from the requirements of Annex I, paragraph 3(a) of 72 COLREGS, and Annex I, Section 84.05(a) of the Inland Rules Act.

This notice is issued under authority of 33 U.S.C. 1605(c), and 33 CFR 81.18.

Dated: May 5, 2009.
Verne B. Gifford,
Captain, U.S. Coast Guard, Chief, Prevention Division, By Direction of the Commander, Eighth Coast Guard District.

[FR Doc. E9-13777 Filed 6-11-09; 8:45 am]

BILLING CODE 4910-15-P